DEPARTMENT OF COMMERCE

National Oceanic and Atmospheric Administration

Science Advisory Board

AGENCY: National Oceanic and Atmospheric Administration (NOAA), Department of Commerce (DOC).

ACTION: Notice of public meetings.

SUMMARY: This notice sets forth the schedule and proposed agenda for the meeting of the Science Advisory Board (SAB). The members will discuss issues outlined in the section on Matters to be considered.

DATES: The meeting is scheduled for December 16-17, 2019 from 9:30 a.m. to 5:15 p.m. (EST) and December 17, 2019 from 8:30 a.m. to 12:15 p.m. (EST). This time and the agenda topics described below are subject to change. For the latest agenda please refer to the SAB website: http://sab.noaa.gov/SABMeetings.aspx.

ADDRESSES: The December 16-17, 2019 venue is to be determined; please check the website for the physical venue. The link for the webinar registration for the December 16-17, 2019 meeting may be found here: https://attendee.gotowebinar.com/register/7581679532832078604.

FOR FURTHER INFORMATION CONTACT: Dr. Cynthia Decker, Executive Director, SSMC3, Room 11230, 1315 East-West Hwy., Silver Spring, MD 20910; Phone Number: 301-734-1156; email: Cynthia.Decker@noaa.gov; or visit the SAB website at http://sab.noaa.gov/SABMeetings.aspx.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The December 16-17, 2019 meeting will be open to public participation with a 15-minute public comment period at 5:00 p.m. EST. The SAB expects that public statements presented at its meetings will not be repetitive of previously submitted verbal or written statements. In general, each individual or group making a verbal presentation will be limited to a total time of three minutes. Written comments for the December 16-17, 2019 should be received in the SAB Executive Director's Office by December 9, 2019 to provide sufficient time for SAB review. Written comments received by the SAB Executive Director after this dates will be distributed to the SAB, but may not be reviewed prior to the meeting date.

Special Accommodations: This meeting is physically accessible to people with disabilities. Requests for special accommodations may be directed to the Executive Director no later than 12 p.m. on December 9, 2019.

Matters to be Considered: The meeting on December 16-17, 2019 will include the (1) NOAA Update, (2) Plans for the FY 2020-2021 SAB Work Plan, (3) Data Access, Data Science and AI-Based Analysis of Environmental Data, (4) Data Archiving and Access Requirements Working Group (DAARWG) Update, (5) Topic 3 Update: Enhance Strategic Investment and Use of Unmanned and Autonomous Systems, (6) Climate Working Group S2SD2 White Paper, (7) CWG report on the Review of the NOAA Ocean Acidification Strategic Plan, (8) IPCC Special Report on Oceans and Cryosphere, (9) Topic 9: New Technologies for Fisheries Stock Assessments Final Report and (10) NOAA Response to the SAB Citizen Science Report. Meeting materials, including work products, will be made available on the SAB website: http://sab.noaa.gov/SABMeetings.aspx.

Dated: November 21, 2019.
David Holst,
Chief Financial Officer/Administrative Officer, Office of Oceanic and Atmospheric Research, National Oceanic and Atmospheric Administration.

[FR Doc. 2019-25797 Filed 11-26-19; 8:45 am]

BILLING CODE 3510-KD-P